DEPARTMENT OF ENERGY

Federal Energy Regulatory Commission

[Project No. 11322-000]

Tuolumne Utilities District; Notice of Existing Licensee's Failure To File a Notice of Intent To File a Subsequent License Application, And Soliciting Notices of Intent To File a License Application and Pre-Application Documents

The current license for Columbia Water Supply Hydroelectric Project No. 11322 was issued to Tuolumne Utilities District on August 28, 1995, for a term of 30 years, ending July 31, 2025.¹ The 350-kilowatt (kW) project is located near the town of Sonora in Tuolumne County, California.

¹ Tuolumne Utilities Dist., 72 FERC 62,178 (1995).

The project consists of: (1) The 5-mile-long Columbia Ditch from its terminus to the project boundary of the Phoenix Hydroelectric Project No. 1061, licensed to Pacific Gas and Electric Company; (2) an intake structure on the Columbia Ditch; (3) an 18,700-foot-long steel penstock; (4) a powerhouse containing one generating unit with an installed capacity of 350 kW; (5) a 500-foot-long tailrace returning water to the Bureau of Reclamation's existing New Melones Reservoir; (6) a 2,600-foot-long transmission line; and (7) appurtenant facilities.

At least five years before the expiration of a license for a minor water power project in which sections 14 and 15 of the Federal Power Act were waived, the Commission's regulations require the licensee to file with the Commission a notice of intent (NOI) that contains an unequivocal statement of the licensee's intention to file or not to file an application for a subsequent license, details on the principal project works and installed plant capacity, and other information.²

² 18 CFR 16.19(b) (2020) (citing 18 CFR 16.6(b)).

If such a licensee does not inform the Commission that it intends to file an application for, in this case, a subsequent license for the project, the licensee may not file an application for a subsequent license, either individually or in conjunction with an entity or entities that are not currently licensees of the project.³

³ 18 CFR 16.24(b).

Because the existing license expires on July 31, 2025, the NOI was due to be filed no later than the close of business on July 31, 2020. Tuolumne Utilities District, the existing licensee for the Columbia Water Supply Hydroelectric Project, failed to file an NOI for the project by this date.

Any party interested in filing a license application for the Columbia Water Supply Hydroelectric Project must first file an NOI ⁴ and a pre-application document (PAD) ⁵ pursuant to Part 5 of the Commission's regulations. Although the integrated licensing process (ILP) is the default pre-filing process, section 5.3(b) of the Commission's regulations allows a potential license applicant to request to use alternative licensing procedures when it files its NOI.⁶

⁴ 18 CFR 5.5.

⁵ 18 CFR 5.6.

⁶ 18 CFR 5.3(b).

This notice sets a deadline of 120 days from the date of this notice for interested applicants, other than the existing licensee, to file NOIs, PADs, and requests to use the traditional licensing process or alternative procedures.

Applications for a subsequent license from potential applicants must be filed with the Commission at least 24 months prior to the expiration of the existing license.⁷ Because the existing license expires on July 31, 2025, applications for license for this project must be filed by July 31, 2023.⁸

⁷ 18 CFR 16.20.

⁸ To the extent an interested applicant files an NOI and PAD and elects or is required to use the Commission's ILP, a process plan will be issued within 180 days of this notice, which accelerates the steps of the ILP to allow for filing a subsequent license application by the July 31, 2023 deadline.

Questions concerning this notice should be directed to Shannon Boyle at (202) 502-8417 or shannon.boyle@ferc.gov.

Dated: October 30, 2020.
Nathaniel J. Davis, Sr.,
Deputy Secretary.

[FR Doc. 2020-24554 Filed 11-4-20; 8:45 am]

BILLING CODE 6717-01-P